DEPARTMENT OF JUSTICE

Notice of Lodging of Proposed Consent Decree Under the Comprehensive Environmental Response, Compensation, and Liability Act

On October 15, 2018, the Department of Justice lodged a proposed consent decree with the United States District Court for the Eastern District of Michigan in the lawsuit entitled United States v. Federal-Mogul, LLC, Civil Action No. 2:18-cv-13205.

The United States filed this lawsuit under the Comprehensive Environmental Response, Compensation, and Liability Act. The United States' complaint seeks recovery of EPA's past response costs for the cleanup of the Shoemaker Street Superfund Site in Detroit, Michigan. The consent decree requires the defendant to pay $425,000 of EPA's past response costs. Upon payment, the defendant will receive a covenant not to sue for any EPA response costs related to the Site that predate the entry of the consent decree.

The publication of this notice opens a period for public comment on the consent decree. Comments should be addressed to the Assistant Attorney General, Environment and Natural Resources Division, and should refer to United States v. Federal-Mogul LLC, D.J. Ref. No. 90-11-3-11568. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $3.50 (25 cents per page reproduction cost) payable to the United States Treasury.

Randall M. Stone,
Acting Assistant Section Chief, Environmental Enforcement Section, Environment and Natural Resources Division.

[FR Doc. 2018-22984 Filed 10-19-18; 8:45 am]

BILLING CODE 4410-15-P